DEPARTMENT OF HOMELAND SECURITY

Coast Guard

33 CFR Part 165

[Docket Number USCG-2025-0082]

RIN 1625-AA00

Safety Zones; Recurring Events in Captain of the Port Duluth Zone

AGENCY: Coast Guard, Department of Homeland Security.

ACTION: Final rule.

SUMMARY: The Coast Guard is revising existing regulations for recurring safety zones in the Captain of the Port Duluth Zone. These amendments update the table of annually recurring marine events, add definitions, and clarify how and when the COTP may enforce listed zones. These changes will improve the timeliness and clarity of public notification, enhance mariner situational awareness, and promote the safety of life on the navigable waters of western Lake Superior during recurring near-shore events.

DATES: This rule is effective December 26, 2025.

ADDRESSES: To view available documents go to https://www.regulations.gov and search for USCG-2025-0082.

FOR FURTHER INFORMATION CONTACT: If you have questions about this rule, contact LT Zachary Fedak, Marine Safety Unit Duluth Waterways Management Division, U.S. Coast Guard; telephone 218-522-0708, or email Zachary.A.Fedak@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background and Authority

Each year, communities throughout the western Lake Superior region sponsor marine events that generate predictable concentrations of spectator vessels in confined harbor and near-shore waters. These activities pose recurring hazards, including the accidental discharge of fireworks, falling embers or debris, and congestion of swimmers or boaters. In such conditions, even routine vessel wakes or sudden wind shifts can increase the risk of collisions and injuries.

To address these risks, the Coast Guard previously codified annually recurring safety zones for these events in 33 CFR 165.943. Under the current regulation, enforcement of each zone must be individually noticed, which can result in fragmented or delayed information reaching mariners. This fragmentation may lead to confusion when multiple events occur in close proximity or on separate dates.

On September 9, 2025, the Coast Guard published a notice of proposed rulemaking (NPRM) titled Safety Zones; Recurring Events in Captain of the Port Duluth Zone (90 FR 43404). In that NPRM, we stated why we issued the NPRM and invited comments on our proposed regulatory action related to regulation revision.

Under the authority in 46 U.S.C. 70034, the COTP has determined that this rule revision is necessary to improve clarity, consistency, and public communication for the purposes of protecting personnel, vessels, and the marine environment from potential hazards associated with these recurring marine events. The revised rule defines key terms to support uniform enforcement; clarifies procedures for enforcement and early suspension of safety zones; updates the regulation's structure and formatting; and frames the rule to allow flexibility for consolidated Notifications of Enforcement when operationally appropriate. These revisions will enhance the predictability and timeliness of safety communications, thereby improving mariner situational awareness and promoting the safety of life on navigable waters.

III. Discussion of Comments and the Rule

During the comment period that ended on October 9, 2025, we received no comments. Based on further internal review, we made minor technical changes to Table 1 for clarity. There are no substantive changes in the regulatory text of this rule from the proposed rule in the NPRM.

This revision to the existing regulatory text and associated table establishing annually recurring safety zones within the Captain of the Port (COTP) Duluth Zone, as listed in 33 CFR 165.943, updates event listings, clarifies enforcement procedures, adds relevant definitions, and structures the rule in a way that may accommodate a single Notification of Enforcement announcing multiple zones or event dates. These revisions will improve the clarity, consistency, and timeliness of public notification.

The geographic locations and general durations of the safety zones remain unchanged. Each safety zone will continue to be enforced only during specific periods, which will be announced in advance through publication of a Notification of Enforcement in the Federal Register and via Broadcast Notices to Mariners over VHF-FM marine channel 16. These measures ensure continued protection of persons, vessels, and the navigable waters of western Lake Superior during recurring safety zone enforcement periods. During periods of enforcement, no vessel or person may enter a designated safety zone without obtaining permission from the COTP Duluth or their designated representative.

IV. Regulatory Analyses

We developed this rule after considering numerous statutes and Executive orders related to rulemaking. Below we summarize our analyses based on a number of these statutes and Executive orders.

A. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. Section 605 of the RFA allows an agency to certify a rule, in lieu of preparing an analysis, if the rulemaking is not expected to have a significant economic impact on a substantial number of small entities.

The Coast Guard certifies that, although some small entities may intend to transit the safety zone above, this rule will not have a significant economic impact on a substantial number of small entities, as mandated by the Regulatory Flexibility Act of 1980, 5 U.S.C. 601-612 for the following reasons. Vessel traffic will be able to safely transit around these safety zones, which are short in duration, geographically limited, and often occur during off-peak periods when vessel traffic is normally low. In addition, the Coast Guard will issue a Broadcast Notice to Marines via VHF FM marine channel 16, which will allow small entities to adjust their transit plans, and the rule allows vessels to request permission to enter the zone from the COTP.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247).

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a revision of an existing regulation establishing recurring safety zones in the Captain of the Port Duluth Zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Revise § 165.943 to read as follows:

§ 165.943 Safety Zones; Recurring Events in Captain of the Port Duluth Zone.

(a) Regulations. (1) In accordance with the general regulations in § 165.23 of this part, entry into, transiting, or anchoring within this safety zone is prohibited unless authorized by the Captain of the Port (COTP) Duluth or his or her designated on-scene representative.

(2) These safety zones are closed to all vessel traffic, except as may be permitted by the COTP Duluth or his or her designated on-scene representative.

(3) The “on-scene representative” of the COTP Duluth is any Coast Guard commissioned, warrant or petty officer who has been designated by the COTP Duluth to act on his behalf.

(4) Vessel operators desiring to enter or operate within the safety zone must contact the COTP Duluth or his or her on-scene representative to obtain permission to do so. The COTP Duluth or his or her on-scene representative may be contacted via VHF Channel 16. Vessel operators given permission to enter or operate in the safety zone must comply with all directions given to them by the COTP Duluth, or his or her on-scene representative.

(5) The enforcement dates and times for each of the safety zones listed in Table 1 are subject to change, but the duration of enforcement would remain the same or nearly the same as stated in Table 1. In the event of a change, the COTP Duluth will provide notice to the public by publishing a Notification of Enforcement in the Federal Register, as well as issuing a Broadcast Notice to Mariners.

(b) Definitions. As used in this section:

(1) Designated representative means any Coast Guard coxswain, petty officer, or other officer operating a Coast Guard vessel and a Federal, State, and local officer designated by or assisting the COTP Duluth in the enforcement of each safety zone.

(2) Public vessel means a vessel that is owned, chartered, or operated by the United States, or by a State or political subdivision thereof.

(3) Rain date refers to an alternate date and/or time in which the safety zone would be enforced in the event of inclement weather.

(c) Suspension of enforcement. The COTP Duluth may suspend enforcement of any of these zones earlier than listed in this section. Should the COTP Duluth suspend any of these zones earlier than the listed duration in this section, he or she may make the public aware of this suspension by Broadcast Notice to Mariners and/or on-scene notice by his or her designated representative.

(d) Exemption. Public vessels, as defined in paragraph (b) of this section, are exempt from the requirements in this section.

(e) Waiver. For any vessel, the COTP Duluth or his or her designated representative may waive any of the requirements of this section upon finding that operational conditions or other circumstances are such that application of this section is unnecessary or impractical for the purposes of safety or security.

(f) Notification. The enforcement dates and times for each of the listed safety zones are subject to change. Advance notice to the local maritime community will be made well in advance of the events through Notification(s) of Enforcement in the Federal Register, listing exact times and dates of the enforcement periods. A Broadcast Notice to Mariners will also be issued.

Table 1 to § 165.943
[Datum NAD 1983]
Event | Location | Enforcement date and time
(a) January Safety Zones
[Reserved]
(b) February Safety Zones
[Reserved]
(c) March Safety Zones
[Reserved]
(d) April Safety Zones
[Reserved]
(e) May Safety Zones
[Reserved]
(f) June Safety Zones
(1) Bridgefest Regatta Fireworks Display | All waters of the Keweenaw Waterway in Hancock, MI within the arc of a circle with a radius of no more than 1,120 feet from the launch site at position 47°07′22″ N, 088°35′28″ W | Mid-June.
(g) July Safety Zones
(1) Ashland 4th of July Fireworks Display | All waters of Chequamegon Bay in Ashland, WI within the arc of a circle with a radius of no more than 1,120 feet from the launch site at position 46°35′50″ N, 090°52′59″ W | On or around July 4th.
(2) City of Bayfield 4th of July Fireworks Display | All waters of the Lake Superior North Channel in Bayfield, WI within the arc of a circle with a radius of no more than 1,120 feet from the launch site at position 46°48′40″ N, 090°48′32″ W | On or around July 4th.
(3) Cornucopia 4th of July Fireworks Display | All waters of Siskiwit Bay in Cornucopia, WI within the arc of a circle with a radius of no more than 1,120 feet from the launch site at position 46°51′35″ N, 091°06′15″ W | On or around July 4th.
(4) Duluth 4th Fest Fireworks Display | All waters of the Duluth Harbor Basin, Northern Section in Duluth, MN within the arc of a circle with a radius of no more than 1,120 feet from the launch site at position 46°46′14″ N, 092°06′16″ W | On or around July 4th.
(5) LaPointe 4th of July Fireworks Display | All waters of Lake Superior in LaPointe, WI within the arc of a circle with a radius of no more than 1,120 feet from the launch site at position 46°46′40″ N, 090°47′22″ W | On or around July 4th.
(6) Two Harbors 4th of July Fireworks Display | All waters of Agate Bay in Two Harbors, MN within the arc of a circle with a radius of no more than 1,120 feet from the launch site at position 47°00′54″ N, 091°40′04″ W | On or around July 4th.
(7) Superior 4th of July Fireworks Display | All waters of Superior Bay in Superior, WI within the arc of a circle with a radius of no more than 1,120 feet from the launch site at position 46°43′28″N, 092°03′38″ W | On or around July 4th.
(h) August Safety Zones
(1) Point to LaPointe Swim | All waters of the Lake Superior North Channel between Bayfield and LaPointe, WI within an imaginary line created by the following coordinates: 46°48′50″ N, 090°48′44″ W, moving southeast to 46°46′44″ N, 090°47′33″ W, then moving northeast to 46°46′52″ N, 090°47′17″ W, then moving northwest to 46°49′03″ N, 090°48′25″ W, and finally returning to the starting position | Early August.
(2) Lake Superior Dragon Boat Festival Fireworks Display | All waters of Superior Bay in Superior, WI within the arc of a circle with a radius of no more than 1,120 feet from the launch site at position 46°43′28″ N, 092°03′47″ W | Late August.
(3) Superior Man Triathlon | All waters of the Duluth Harbor Basin, Northern Section in Duluth, MN within an imaginary line created by the following coordinates: 46°46′36″ N, 092°06′06″ W, moving southeast to 46°46′32″ N, 092°06′01″ W, then moving northeast to 46°46′45″ N, 092°05′45″ W, then moving northwest to 46°46′49″ N, 092°05′49″ W, and finally returning to the starting position | Late August.
(i) September Safety Zones
[Reserved]
(j) October Safety Zones
[Reserved]
(k) November Safety Zones
[Reserved]
(l) December Safety Zones
[Reserved]

Dated: November 19, 2025.
John P. Botti,
Commander, U.S. Coast Guard, Captain of the Port Marine Safety Unit Duluth.

[FR Doc. 2025-20935 Filed 11-24-25; 8:45 am]

BILLING CODE 9110-04-P